DEPARTMENT OF HOMELAND SECURITY

Federal Emergency Management Agency

[Docket ID FEMA-2014-0002]

Changes in Flood Hazard Determinations

AGENCY: Federal Emergency Management Agency, DHS.

ACTION: Final Notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Arkansas: Washington (FEMA Docket No.: B-1354) | City of Fayetteville (13-06-1658P) | The Honorable Lioneld Jordan, Mayor, City of Fayetteville, 113 West Mountain Street, Fayetteville, AR 72701 | Development Services Building, 125 West Mountain Street, Fayetteville, AR 72701 | February 11, 2014 | 050216
Oklahoma: Oklahoma (FEMA Docket No.: B-1354) | City of Oklahoma City (13-06-1918P) | The Honorable Mick Cornett, Mayor, City of Oklahoma City, 200 North Walker Avenue, 3rd Floor, Oklahoma City, OK 73102 | 420 West Main Street, Suite 700, Oklahoma City, OK 73102 | February 6, 2014 | 405378
Texas:
Bexar (FEMA Docket No.: B-1354) | City of San Antonio (13-06-3687P) | The Honorable Julian Castro, Mayor, City of San Antonio, P.O. Box 839966, San Antonio, TX 78283 | Department of Public Works, Storm Water Engineering, 1901 South Alamo Street, 2nd Floor, San Antonio, TX 78204 | February 3, 2014 | 480045
Bexar (FEMA Docket No.: B-1354) | City of San Antonio (13-06-3350P) | The Honorable Julian Castro, Mayor, City of San Antonio, P.O. Box 839966, San Antonio, TX 78283 | Department of Public Works, Storm Water Engineering, 1901 South Alamo Street, 2nd Floor, San Antonio, TX 78204 | February 10, 2014 | 480045
Bexar (FEMA Docket No.: B-1354) | Unincorporated areas of Bexar County (13-06-2845P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | February 3, 2014 | 480035
Bexar (FEMA Docket No.: B-1354) | Unincorporated areas of Bexar County (13-06-3349P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | February 3, 2014 | 480035
Dallas (FEMA Docket No.: B-1354) | City of Garland (13-06-1717P) | The Honorable Douglas Athas, Mayor, City of Garland, 200 North 5th Street, Garland, TX 75040 | Engineering Department, 800 West Main Street, Garland, TX 75040 | February 10, 2014 | 485471
Dallas (FEMA Docket No.: B-1354) | City of Rowlett (12-06-3599P) | The Honorable Todd Gottel, Mayor, City of Rowlett, 4000 Main Street, Rowlett, TX 75088 | Development Services Building, 3901 Main Street, Rowlett, TX 75088 | February 7, 2014 | 480185
Denton (FEMA Docket No.: B-1354) | Unincorporated areas of Denton County (13-06-3201P) | The Honorable Mary Horn, Denton County Judge, 110 West Hickory Street, 2nd Floor, Denton, TX 76201 | Denton County Planning Department, 1505 East McKinney Street, Suite 175, Denton, TX 76209 | February 6, 2014 | 480774
Fort Bend (FEMA Docket No.: B-1358) | City of Sugar Land (13-06-4003P) | The Honorable James Thompson, Mayor, City of Sugar Land, P.O. Box 110, Sugar Land, TX 77487 | City Hall, 2700 Town Center Boulevard North, Sugar Land, TX 77479 | February 14, 2014 | 480234
Fort Bend and Harris (FEMA Docket No.: B-1354) | City of Houston (13-06-1908P) | The Honorable Annise D. Parker, Mayor, City of Houston, P.O. Box 1562, Houston, TX 77251 | Floodplain Management Office, Public Works and Engineering, 1002 Washington Avenue, 3rd Floor, Houston, TX 77002 | February 6, 2014 | 480296
Grayson (FEMA Docket No.: B-1354) | Unincorporated areas of Grayson County (12-06-3502P) | The Honorable Drue Bynum, Grayson County Judge, 100 West Houston Street, Sherman, TX 75090 | Grayson County Courthouse, 100 West Houston Street, Sherman, TX 75090 | February 6, 2014 | 480829
Harris (FEMA Docket No.: B-1354) | Unincorporated areas of Harris County (12-06-3910P) | The Honorable Ed M. Emmett, Harris County Judge, 1001 Preston Street, Suite 911, Houston, TX 77002 | Harris County, 10555 Northwest Freeway, Houston, TX 77092 | February 6, 2014 | 480287
Potter (FEMA Docket No.: B-1354) | City of Amarillo (13-06-1845P) | The Honorable Paul Harpole, Mayor, City of Amarillo, P.O. Box 1971, Amarillo, TX 79105 | City Hall, 509 Southeast 7th Avenue, Amarillo, TX 79105. | February 3, 2014 | 480529

(Catalog of Federal Domestic Assistance No. 97.022, “Flood Insurance.”)

Dated: April 14, 2014.
Roy E. Wright,
Deputy Associate Administrator for Mitigation, Department of Homeland Security, Federal Emergency Management Agency.

[FR Doc. 2014-09725 Filed 4-28-14; 8:45 am]

BILLING CODE 9110-12-P